DEPARTMENT OF TRANSPORTATION

Federal Railroad Administration

[Docket No. FRA-2000-7257; Notice No. 60]

Railroad Safety Advisory Committee; Notice of Meeting

AGENCY: Federal Railroad Administration (FRA), Department of Transportation (DOT).

ACTION: Announcement of Railroad Safety Advisory Committee (RSAC) Meeting.

SUMMARY: FRA announces the forty-first meeting of the RSAC, a Federal Advisory Committee that develops railroad safety regulations through a consensus process. This meeting has been rescheduled from the weather-postponed February 11, 2010, meeting (75 FR 3959). The RSAC meeting topics will include opening remarks from the FRA Associate Administrator for Railroad Safety, and status reports will be provided by representatives from the following Working Groups: Conductor Certification, Passenger Safety, Track Safety Standards, and Medical Standards Working Groups. Status updates will be provided on the following tasks arising out of the Rail Safety Improvement Act of 2008 (RSIA): Positive Train Control, Passenger Hours of Service, and Railroad Bridge Safety Management. A new task regarding minimum training standards may be offered to the Committee for consideration. FRA may request the Committee's agreement to consider one or more items of business by mail ballot, including proposed requirements for passenger system safety programs. This agenda is subject to change, including the possible addition of further proposed tasks under the RSIA.

DATES: The meeting of the RSAC is scheduled to commence at 9:30 a.m. on Thursday, March 18, 2010, and will adjourn by 4:30 p.m.

ADDRESSES: The RSAC meeting will be held at the Marriott Washington, Wardman Park Hotel, located at 2660 Woodley Road, NW., Washington, DC. The meeting is open to the public on a first-come, first-served basis, and is accessible to individuals with disabilities. Sign and oral interpretation can be made available if requested 10 calendar days before the meeting.

FOR FURTHER INFORMATION CONTACT: Larry Woolverton, RSAC Administrative Officer/Coordinator, FRA, 1200 New Jersey Avenue, SE., Mailstop 25, Washington, DC 20590, (202) 493-6212; or Grady Cothen, Deputy Associate Administrator for Safety, FRA, 1200 New Jersey Avenue, SE., Mailstop 25, Washington, DC 20590, (202) 493-6302.

SUPPLEMENTARY INFORMATION: Pursuant to Section 10(a)(2) of the Federal Advisory Committee Act (Pub. L. 92-463), FRA is giving notice of a meeting of the RSAC. The RSAC was established to provide advice and recommendations to FRA on railroad safety matters. The RSAC is composed of 54 voting representatives from 31 member organizations, representing various rail industry perspectives. In addition, there are non-voting advisory representatives from the National Transportation Safety Board, the Federal Transit Administration, and from the agencies with railroad safety regulatory responsibility in Canada and Mexico. The diversity of the Committee ensures the requisite range of views and expertise necessary to discharge its responsibilities. See the RSAC Web site for details on pending tasks at: http://rsac.fra.dot.gov. Please refer to the notice published in the Federal Register on March 11, 1996, (61 FR 9740) for additional information about the RSAC.

Issued in Washington, DC on February 22, 2010.
Grady C. Cothen, Jr.,
Deputy Associate Administrator for Safety Standards and Program Development.

[FR Doc. 2010-3863 Filed 2-24-10; 8:45 am]

BILLING CODE 4910-06-P